DEPARTMENT OF EDUCATION

[CFDA No. 84.326J]

Notice of Proposed Extension of Project Period and Waiver for the National Secondary Transition Technical Assistance Center

AGENCY: Office of Special Education Programs, Office of Special Education and Rehabilitative Services, Department of Education.

ACTION: Notice of proposed extension of project period and waiver for the National Secondary Transition Technical Assistance Center (CFDA No. 84.326J).

SUMMARY: The Secretary proposes to waive the requirements in the Education Department General Administrative Regulations (EDGAR), in 34 CFR 75.250 and 75.261(a) and (c), respectively, that generally prohibit project periods exceeding five years and extensions of project periods involving the obligation of additional Federal funds. This extension of project period and waiver would enable the currently funded National Secondary Transition Technical Assistance Center to receive funding from October 1, 2010 through September 30, 2011.

DATES: We must receive your comments on or before August 12, 2010.

ADDRESSES: Address all comments about this proposed extension of project period and waiver to Michael Slade, U.S. Department of Education, 400 Maryland Avenue, SW., Room 4083, Potomac Center Plaza, Washington, DC 20202-2600. Telephone: (202) 245-7527.

If you prefer to send your comments by e-mail, use the following address: michael.slade@ed.gov. You must include the phrase “proposed extension of project period and waiver” in the subject line of your message.

FOR FURTHER INFORMATION CONTACT: Michael Slade at the address listed in the ADDRESSES section of this notice. Telephone: (202) 245-7527. If you use a telecommunications device for the deaf (TDD), call the Federal Relay Service (FRS), toll-free, at 1-800-877-8339.

Individuals with disabilities can obtain this document in an accessible format (e.g., braille, large print, audiotape, or computer diskette) on request to the contact person listed in this section.

SUPPLEMENTARY INFORMATION:

Invitation To Comment

We invite you to submit comments regarding this proposed extension of project period and waiver.

During and after the comment period, you may inspect all public comments about this proposed extension of project period and waiver in Room 4083, Potomac Center Plaza, 550 12th Street, SW., Washington, DC, between the hours of 8:30 a.m. and 4:00 p.m., Eastern time, Monday through Friday of each week except Federal holidays.

Assistance to Individuals With Disabilities in Reviewing the Rulemaking Record:

On request, we will supply an appropriate accommodation or auxiliary aid to an individual with a disability who needs assistance to review the comments or other documents in the public rulemaking record for this proposed extension of project period and waiver. If you want to schedule an appointment for this type of accommodation or auxiliary aid, please contact the person listed under FOR FURTHER INFORMATION CONTACT.

Background

On March 8, 2005, the Department published a notice in the Federal Register (70 FR 11214), inviting applications for new awards for fiscal year (FY) 2005 under the Technical Assistance and Dissemination to Improve Services and Results for Children with Disabilities (TA&D) program, authorized under section 663 of the Individuals with Disabilities Education Act (IDEA), to support a Secondary Transition Technical Assistance Center. Based on that notice, the Department made one award for a period of 60 months to the University of North Carolina at Charlotte to carry out the National Secondary Transition Technical Assistance Center (NSTTAC). Currently, the Office of Special Education Programs (OSEP) funds NSTTAC to support the improvement of transition planning, services, and outcomes for youth with disabilities by disseminating information and providing technical assistance (TA) on evidence-based practices with an emphasis on building and sustaining State-level infrastructures of support and building district-level demonstrations of effective transition methods. NSTTAC has demonstrated significant progress in disseminating information on evidence-based practices and providing TA to States and local educational agencies (LEAs) to advance implementation of effective transition planning and services.

NSTTAC's current project period is scheduled to end on December 31, 2010. We do not believe it would be in the public interest to hold new competitions under the TA&D program until the Department has considered changes being made to the Elementary and Secondary Education Act (ESEA) during the process of reauthorizing that Act and the Department has developed a coordinated strategy for the provision of technical assistance that is designed to help States, LEAs, and schools effectively implement key provisions of the ESEA and IDEA and improve educational results for all students. We also have concluded that it would be contrary to the public interest to have a lapse in the provision of technical assistance provided under the TA&D program pending the reauthorization of the ESEA. For these reasons, the Secretary proposes to waive the requirements in 34 CFR 75.250, which prohibit project periods exceeding five years, and the requirements in 34 CFR 75.261(a) and (c), which limit the extension of a project period if the extension involves the obligation of additional Federal funds, and issue a continuation award in the amount of $1,100,000 to the University of North Carolina at Charlotte (H326J050004) for an additional twelve-month period.

Waiving these regulations and issuing this continuation award would ensure that continued technical assistance is available to assist States and LEAs with effective transition planning and services, as the Department works on reauthorization of the ESEA and designs TA&D competitions that are coordinated and aligned with the Department's technical assistance priorities.

During the next fiscal year, NSTTAC would continue, update, and expand its work to (1) identify evidence-based practices that provide a foundation for States to improve transition planning and services that enhance post-school outcomes; (2) disseminate information to State personnel, practitioners, researchers, parents, and students regarding effective transition planning and services that improve post-school outcomes; (3) build the capacity of States and LEAs to implement effective transition planning and services that improve post-school outcomes; and (4) assist State educational agencies with collecting data on IDEA Part B State Performance Plan/Annual Performance Report Indicator 13, which assesses States' implementation of comprehensive transition planning and services, and using these data to guide improvement activities.

Regulatory Flexibility Act Certification

The Secretary certifies that the proposed extension of project period and waiver would not have a significant economic impact on a substantial number of small entities. The only entity that would be affected is NSTTAC.

Paperwork Reduction Act of 1995

This proposed extension of project period and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: July 22, 2010.
Alexa Posny,
Assistant Secretary for Special Education and Rehabilitative Services.

[FR Doc. 2010-18520 Filed 7-27-10; 8:45 am]

BILLING CODE 4000-01-P